DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 1, 2013. Address written comments to Statutory Import Programs Staff, Room 3720, U.S. Department of Commerce, Washington, DC 20230. Applications may be examined between 8:30 a.m. and 5:00 p.m. at the U.S. Department of Commerce in Room 3720.

Docket Number: 13-016. Applicant: Pacific Northwest National Laboratory, 902 Battelle Boulevard, Richland, WA 99352. Instrument: Electron Microscope. Manufacturer: JEOL Ltd., Japan. Intended Use: The instrument will be used for the development of new materials or the improvement of existing materials requiring a clear understanding of structure/property relationships, atomic structure, distribution of various constituent elements, and the presence of defects in materials. Justification for Duty-Free Entry: There are no instruments of the same general category manufactured in the United States. Application accepted by Commissioner of Customs: March 22, 2013.

Docket Number: 13-018. Applicant: The Scripps Institute, 10550 North Torrey Pines Road, La Jolla, CA 92037. Instrument: Electron Microscope. Manufacturer: FEI Company, Czech Republic. Intended Use: The instrument will be used to determine the manner in which macromolecular biological assemblies including viruses, cellular protein assemblies, nanoparticles, and cellular organelles perform crucial life processes. Justification for Duty-Free Entry: There are no instruments of the same general category manufactured in the United States. Application accepted by Commissioner of Customs: April 11, 2013.

Docket Number: 13-021. Applicant: University of Massachusetts Amherst, 120 Governors Drive, Amherst, MA 01003. Instrument: Electron Microscope. Manufacturer: JEOL Ltd., Japan. Intended Use: The instrument will be used to identify structure/properties relationships of polymer based solar cells or for the structural analysis of polymer/nanoparticle hybrid materials for the development of high-density storage devices, as well as to study the self-assembly of bio-polymer systems for drug-delivery system development. Justification for Duty-Free Entry: There are no instruments of the same general category manufactured in the United States. Application accepted by Commissioner of Customs: April 3, 2013.

Docket Number: 13-022. Applicant: University of Utah, 5C124 School of Medicine, Salt Lake City, UT 84132. Instrument: Electron Microscope. Manufacturer: JEOL Ltd., Japan. Intended Use: The instrument will be used to categorize tissues obtained from living organisms, cellular constructs, viruses, bacteria, and single-celled organisms, as well as particulate matter, including nanoparticles and other synthesized objects by cellular structure, morphology, and three-dimensional structure. The effects of genetic mutation, disease, and different environmental conditions on the subjects will also be studied. Justification for Duty-Free Entry: There are no instruments of the same general category manufactured in the United States. Application accepted by Commissioner of Customs: May 22, 2013.

Docket Number: 13-024. Applicant: University of Pennsylvania, 421 Curie Blvd., Biomedical Research Building, Room 1157, Perelman School of Medicine, Philadelphia, PA 19104. Instrument: Electron Microscope. Manufacturer: FEI Company, Czech Republic. Intended Use: The instrument will be used for the examination of traditional dehydrated, metal coated samples, as well as hydrated samples, and back-scattered electron detection of colloidal gold particles. Experiments will also require the identification and localization of specific macromolecules on the surface of cells or other structures, which requires a back-scattered electron detector. Justification for Duty-Free Entry: There are no instruments of the same general category manufactured in the United States. Application accepted by Commissioner of Customs: May 16, 2013.

Dated: June 5, 2013.
Gregory W. Campbell,
Director of Subsidies Enforcement, Import Administration.

[FR Doc. 2013-13879 Filed 6-10-13; 8:45 am]

BILLING CODE 3510-DS-P